DEPARTMENT OF HEALTH AND HUMAN SERVICES

National Institutes of Health

Submission for OMB Review; Comment Request; Reinstatement of OMB No. 0925-0601/exp. 02/28/2010, Request for Human Embryonic Stem Cell Line To Be Approved for Use in NIH Funded Research

ACTION: Correction notice.

On March 2, 2010 the National Institutes of Health published a notice in the Federal Register (75 FR 9418) with a 30-day comment period seeking public comment for an information collection entitled “Request for Human Embryonic Stem Cell Line to be Approved for Use in NIH Funded Research”.

In the second paragraph of the notice entitled, “Proposed Collection,” the annual reporting burden reflected in the notice is corrected to read: “Estimated Number of Respondents: 100; Estimated Number of Responses per Respondent: 1; Average Burden Hours Per Response: 3; and Estimated Total Annual Burden Hours Requested: 300. The estimated annualized cost to respondents is $10,500.”

All other information in the notice is correct and remains unchanged.

Dated: March 2, 2010.
Mikia Currie,
Office of Policy for Extramural Research Administration, OD, National Institutes of Health.

[FR Doc. 2010-5020 Filed 3-9-10; 8:45 am]

BILLING CODE 4140-01-P